COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities, and deletes products and a service previously furnished by such agencies.

Comments Must Be Received on Or Before: 5/13/2013.

ADDRESSES: Committee for Purchase From People Who Are Blind or Severely Disabled, 1401 S. Clarke Street, Suite 10800, Arlington, Virginia 22202-4149

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to Procurement List for production by the nonprofit agencies listed:

Services

Service Type/Location: Operation of Supply Support Activity Service, 733d Logistics Readiness Division, Building 1608 and 1610, Patch Road, Joint Base Langley-Eustis, VA.

NPA: Skookum Educational Programs, Bremerton, WA

Contracting Activity: Dept of the Air Force, FA4800 633 CONS LGCP, Langley AFB, VA

Service Type/Location: Warehousing Service, Fort Hood II Commissary, Warrior Way Building 85020, Fort Hood, TX.

NPA: CW Resources, Inc., New Britain, CT

Contracting Activity: Defense Commissaryagency (DECA), Fort Lee, VA

Deletions

The following products and service are proposed for deletion from the Procurement List:

Products

NSN: 8415-00-NIB-0012—Sweatshirt, USMA, Hooded, Gray, Large

NSN: 8415-00-NIB-0013—Sweatshirt, USMA, Hooded, Gray, X-Large

NSN: 8415-00-NIB-0014—Sweatshirt, USMA, Hooded, Gray, Medium

NSN: 8415-00-NIB-0015—Sweatshirt, USMA, Crewneck, Gray, Large

NSN: 8415-00-NIB-0016—Sweatshirt, USMA, Crewneck, Gray, X-Large

NSN: 8415-00-NIB-0017—Sweatshirt, USMA, Crewneck, Gray, Medium

NSN: 8415-00-NIB-0018—Sweatpants, USMA, Gray, Large

NSN: 8415-00-NIB-0019—Sweatpants, USMA, Gray, X-Large

NSN: 8415-00-NIB-0020—Sweatpants, USMA, Gray, Medium

NPA: Blind Industries & Services of Maryland, Baltimore, MD

Contracting Activity: W40M Natl Region Contract OFC, Fort Belvoir, VA

NSN: 7930-00-664-6910—Glass Cleaner, Bio-based, Heavy Duty, 8 oz.

NPA: Lighthouse for the Blind of Houston, Houston, TX

Contracting Activity: General Services Administration, Fort Worth, TX

Safety-Walk, Tapes & Treads—660 Brown General Purpose

NSN: 7220-00-NIB-0050

NSN: 7220-00-NIB-0051

NSN: 7220-00-NIB-0052

NPA: Louisiana Association for the Blind, Shreveport, LA

Contracting Activity: General Services Administration, New York, NY

Service

Service Type/Location: Receiving, Shipping, Handling & Custodial Service, Brunswick Naval Air Station, 35 Dominion Avenue, Building 335, Topsham, ME.

NPA: Pathways, Inc., Auburn, ME

Contracting Activity: Defense Commissaryagency (DECA), Fort Lee, VA

Barry S. Lineback,
Director, Business Operations.

[FR Doc. 2013-08655 Filed 4-11-13; 8:45 am]

BILLING CODE 6353-01-P